NATIONAL FOUNDATION ON THE ARTS AND THE HUMANITIES

Meetings of Humanities Panel

AGENCY: The National Endowment for the Humanities.

ACTION: Notice of meetings.

SUMMARY: Pursuant to the provisions of the Federal Advisory Committee Act (Pub. L. 92-463, as amended), notice is hereby given that the following meetings of the Humanities Panel will be held at the Old Post Office, 1100 Pennsylvania Avenue, NW., Washington, DC 20506.

FOR FURTHER INFORMATION CONTACT: Daniel Schneider, Advisory Committee Management Officer, National Endowment for the Humanities, Washington, DC 20506; telephone (202) 606-8322. Hearing-impaired individuals are advised that information on this matter may be obtained by contacting the Endowment's TDD terminal on (202) 606-8282.

SUPPLEMENTARY INFORMATION: The proposed meetings are for the purpose of panel review, discussion, evaluation and recommendation on applications for financial assistance under the National Foundation on the Arts and the Humanities Act of 1965, as amended, including discussion of information given in confidence to the agency by the grant applicants. Because the proposed meetings will consider information that is likely to disclose trade secrets and commercial or financial information obtained from a person and privileged or confidential and/or information of a personal nature the disclosure of which would constitute a clearly unwarranted invasion of personal privacy, pursuant to authority granted me by the Chairman's Delegation of Authority to Close Advisory Committee meetings, dated July 19, 1993, I have determined that these meetings will be closed to the public pursuant to subsections (c) (4), and (6) of section 552b of title 5, United States Code.

1. Date: July 7, 2004.

Time: 9 a.m. to 5 p.m.

Room: 426.

Program: This meeting will review applications for The Teaching of U.S. History through EDSITEment in EDSITEMENT, submitted to the Division of Education Programs at the June 21, 2004, deadline.

2. Date: July 12, 2004.

Time: 8:30 a.m. to 5 p.m.

Room: 315.

Program: This meeting will review applications for Studies of Science and Medicine in Fellowships, submitted to the Division of Research Programs at the May 1, 2004, deadline.

3. Date: July 13, 2004.

Time: 8:30 a.m. to 5:30 p.m.

Room: 420.

Program: This meeting will review applications for History, submitted to the Office of Challenge Grants at the May 1, 2004, deadline.

4. Date: July 13, 2004.

Time: 8:30 a.m. to 5 p.m.

Room: 315.

Program: This meeting will review applications for Art History and Archaeology in Fellowships, submitted to the Division of Research Programs at the May 1, 2004, deadline.

5. Date: July 13, 2004.

Time: 8:30 a.m. to 5 p.m.

Room: 527.

Program: This meeting will review applications for Art History and Architecture in Fellowships, submitted to the Division of Research Programs at the May 1, 2004, deadline.

6. Date: July 14, 2004.

Time: 8:30 a.m. to 5 p.m.

Room: 315.

Program: This meeting will review applications for Historical Studies in Faculty Research Awards, submitted to the Division of Research Programs at the May 1, 2004, deadline.

7. Date: July 15, 2004.

Time: 8:30 a.m. to 5:30 p.m.

Room: 415.

Program: This meeting will review applications for Research Initiatives, submitted to the Office of Challenge Grants at the May 1, 2004, deadline.

8. Date: July 15, 2004.

Time: 8:30 a.m. to 5 p.m.

Room: 315.

Program: This meeting will review applications for European History I in Fellowships, submitted to the Division of Research Programs at the May 1, 2004, deadline.

9. Date: July 15, 2004.

Time: 8:30 a.m. to 5 p.m.

Room: 527.

Program: This meeting will review applications for European History II in Fellowships, submitted to the Division of Research Programs at the May 1, 2004, deadline.

10. Date: July 16, 2004.

Time: 8:30 a.m. to 5 p.m.

Room: 315.

Program: This meeting will review applications for Asian Studies in Fellowships, submitted to the Division of Research Programs at the May 1, 2004, deadline.

11. Date: July 19, 2004.

Time: 8:30 a.m. to 5 p.m.

Room: 315.

Program: This meeting will review applications for Anthropology and Archaeology in Fellowships, submitted to the Division of Research Programs at the May 1, 2004, deadline.

12. Date: July 19, 2004.

Time: 8:30 a.m. to 5 p.m.

Room: M-07.

Program: This meeting will review applications for Literary Studies in Faculty Research Awards, submitted to the Division of Research Programs at the May 1, 2004, deadline.

13. Date: July 20, 2004.

Time: 9 a.m. to 5:30 p.m.

Room: 415.

Program: This meeting will review applications for Art & Anthropology, submitted to the Office of Challenge Grants at the May 1, 2004, deadline.

14. Date: July 20, 2004.

Time: 8:30 a.m. to 5 p.m.

Room: 315.

Program: This meeting will review applications for British Literature I in Fellowships, submitted to the Division of Research Programs at the May 1, 2004, deadline.

15. Date: July 20, 2004.

Time: 8:30 a.m. to 5 p.m.

Room: M-07.

Program: This meeting will review applications for British Literature II in Fellowships, submitted to the Division of Research Programs at the May 1, 2004, deadline.

16. Date: July 21, 2004.

Time: 8:30 a.m. to 5 p.m.

Room: 315.

Program: This meeting will review applications for Latin American Studies I in Fellowships, submitted to the Division of Research Programs at the May 1, 2004, deadline.

17. Date: July 21, 2004.

Time: 8:30 a.m. to 5 p.m.

Room: M-07.

Program: This meeting will review applications for Religious Studies II in Fellowships, submitted to the Division of Research Programs at the May 1, 2004, deadline.

18. Date: July 22, 2004.

Time: 8:30 a.m. to 5:30 p.m.

Room: 415.

Program: This meeting will review applications for Colleges & Universities, submitted to the Office of Challenge Grants at the May 1, 2004, deadline.

19. Date: July 22, 2004.

Time: 8:30 a.m. to 5 p.m.

Room: 315.

Program: This meeting will review applications for American History I in Fellowships, submitted to the Division of Research Programs at the May 1, 2004, deadline.

20. Date: July 22, 2004.

Time: 8:30 a.m. to 5 p.m.

Room: M-07.

Program: This meeting will review applications for American History II in Fellowships, submitted to the Division of Research Programs at the May 1, 2004, deadline.

21. Date: July 23, 2004.

Time: 8:30 a.m. to 5 p.m.

Room: 315.

Program: This meeting will review applications for American Studies II in Fellowships, submitted to the Division of Research Programs at the May 1, 2004, deadline.

22. Date: July 26, 2004.

Time: 8:30 a.m. to 5 p.m.

Room: M-07.

Program: This meeting will review applications for Anthropology in Fellowships, submitted to the Division of Research Programs at the May 1, 2004, deadline.

23. Date: July 26, 2004.

Time: 8:30 a.m. to 5 p.m.

Room: 315.

Program: This meeting will review applications for Germanic and Slavic Studies in Fellowships, submitted to the Division of Research Programs at the May 1, 2004 deadline.

24. Date: July 27, 2004.

Time: 8:30 a.m. to 5 p.m.

Room: 315.

Program: This meeting will review applications for American Literature I in Fellowships, submitted to the Division of Research Programs at the May 1, 2004, deadline.

25. Date: July 27, 2004.

Time: 8:30 a.m. to 5 p.m.

Room: M-07.

Program: This meeting will review applications for American Literature II in Fellowships, submitted to the Division of Research Programs at the May 1, 2004, deadline.

Daniel Schneider,
Advisory Committee Management Officer.

[FR Doc. 04-14517 Filed 6-25-04; 8:45 am]

BILLING CODE 7536-01-P